DEPARTMENT OF STATE

[Public Notice: 5127]

60-Day Notice of Proposed Information Collection: Form DS-3083, Training Registration (for Non-U.S. Government Persons), OMB Control No. 1405-0145

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Training Registration (for Non-U.S. Government Persons).

• OMB Control Number: 1405-0145.

• Type of Request: Extension of a currently approved collection.

• Originating Office: Foreign Service Institute (FSI).

• Form Number: DS-3083.

• Respondents: Respondents are non-U.S. government persons and/or their eligible family members, authorized by Public Law 105-277 to receive training delivered by the Foreign Service Institute on a reimbursable or advance of funds basis.

• Estimated Number of Respondents: 200.

• Estimated Number of Responses: 200.

• Average Hours per Response: 0.5.

• Total Estimated Burden: 100.

• Frequency: On occasion.

• Obligation to Respond: Required to obtain or retain a benefit.

DATES: The Department will accept comments from the public up to 60 days from July 7, 2005.

ADDRESSES: You may submit comments by any of the following methods:

• E-mail: oshimawa@state.gov. You must include the DS form number (if applicable), information collection title, and OMB control number in the subject line of your message.

• Mail (paper, disk, or CD-ROM submissions): Foreign Service Institute, Office of Management, U.S. Department of State, Washington, DC 20522-4201.

• Fax: (703) 302-7227.

FOR FURTHER INFORMATION CONTACT: Direct requests for additional information regarding the collection listed in this notice, including requests for copies of the proposed information collection and supporting documents, to Wayne A. Oshima, Foreign Service Institute, Office of Management, U.S. Department of State, Washington, DC 20522-4201, who may be reached on (703) 302-6730, or via e-mail address oshimawa@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This data collection tool is to be used to obtain information from non-U.S. Government persons so that they can enroll in courses offered by the Department of State's Foreign Service Institute. This includes information of a personal and business nature, and credit card information so that the Department can receive reimbursement.

Methodology: This information will be collected in hard copy format, which is either mailed or transmitted by facsimile machine to the Foreign Service Institute.

Dated: June 17, 2005.
Catherine J. Russell,
Executive Director, Foreign Service Institute, Department of State.

[FR Doc. 05-13359 Filed 7-6-05; 8:45 am]

BILLING CODE 4710-34-P